DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Arizona:
Maricopa (FEMA Docket No.: B-2451). | City of Glendale (23-09-0794P). | The Honorable Jerry P. Weiers, Mayor, City of Glendale, 5850 West Glendale Avenue, Glendale, AZ 85301. | City Hall, 5850 West Glendale Avenue, Glendale, AZ 85301. | Sep. 27, 2024 | 040045
Maricopa (FEMA Docket No.: B-2451). | Unincorporated areas of Maricopa County (23-09-0794P). | Jack Sellers, Chair, Maricopa County Board of Supervisors, 301 West Jefferson, 10th Floor, Phoenix, AZ 85003. | Maricopa County Flood Control District, 2801 West Durango Street, Phoenix, AZ 85009. | Sep. 27, 2024 | 040037
Pima (FEMA Docket No.: B-2451). | Town of Oro Valley (22-09-1051P). | The Honorable Joe Winfield, Mayor, Town of Oro Valley, 11000 North La Cañada Drive, Oro Valley, AZ 85737. | Planning and Zoning Department, 11000 North La Cañada Drive, Oro Valley, AZ 85737. | Oct. 2, 2024 | 040109
Pima (FEMA Docket No.: B-2451). | Unincorporated areas of Pima County (22-09-1051P). | Adelita Grijalva, Chair, Pima County Board of Supervisors, 33 North Stone Avenue, 11th Floor, Tucson, AZ 85701. | Pima County Flood Control District, 201 North Stone Avenue, 9th Floor, Tucson, AZ 85701. | Oct. 2, 2024 | 040073
Yavapai (FEMA Docket No.: B-2451). | Town of Prescott Valley (23-09-1074P). | The Honorable Kell Palguta, Mayor, Town of Prescott Valley, 7501 East Skoog Boulevard, 4th Floor, Prescott Valley, AZ 86314. | Engineering Division, 7501 East Civic Circle, Prescott Valley, AZ 86314. | Sep. 13, 2024 | 040121
California:
Riverside (FEMA Docket No.: B-2451). | City of Hemet (23-09-0848P). | The Honorable Joe Males, Mayor, City of Hemet, 445 East Florida Avenue, Hemet, CA 92543. | Engineering Department, 510 East Florida Avenue, Hemet, CA 92543. | Sep. 27, 2024 | 060253
Riverside (FEMA Docket No.: B-2451). | City of Perris (23-09-1357P). | The Honorable Michael M. Vargas, Mayor, City of Perris, 101 North D Street, Perris, CA 92570. | Engineering Department, 24 South D Street, Suite 100, Perris, CA 92570. | Sep. 23, 2024 | 060258
Riverside (FEMA Docket No.: B-2451). | Unincorporated areas of Riverside County (23-09-0848P). | Chuck Washington, Chair, Riverside County Board of Supervisors, 4080 Lemon Street, 5th Floor, Riverside, CA 92501. | Riverside County Flood Control and Water Conservation District, 1995 Market Street, Riverside, CA 92501. | Sep. 27, 2024 | 060245
San Mateo (FEMA Docket No.: B-2451). | City of Redwood City (23-09-0500P). | The Honorable Jeff Gee, Mayor, City of Redwood City, 1017 Middlefield Road, Redwood City, CA 94063. | City Hall, 1017 Middlefield Road, Redwood City, CA 94063. | Oct. 2, 2024 | 060325
Yolo (FEMA Docket No.: B-2451). | Unincorporated areas of Yolo County (23-09-0598P). | Lucas Frerichs, Chair, Yolo County Board of Supervisors, 625 Court Street, Room 204, Woodland, CA 95695. | Yolo County Department of Planning and Public Works, 292 West Beamer Street, Woodland, CA 95695. | Sep. 19, 2024 | 060423
Indiana:
Monroe (FEMA Docket No.: B-2451). | City of Bloomington (22-05-3348P). | The Honorable Kerry Thomson, Mayor, City of Bloomington, 401 North Morton Street, Suite 210, Bloomington, IN 47402. | Planning Department, 401North Morton Street, Bloomington, IN 47402. | Sep. 16, 2024 | 180169
Monroe (FEMA Docket No.: B-2451). | Unincorporated areas of Monroe County (22-05-3348P). | Julie Thomas, President, Monroe County Board of Commissioners, 100 West Kirkwood Avenue, Room 323, Bloomington, IN 47404. | Monroe County Planning Department, 501 North Morton Street, Suite 224, Bloomington, IN 47404. | Sep. 16, 2024 | 180444
Michigan:
Berrien (FEMA Docket No.: B-2451). | Charter Township of Benton (24-05-0176P). | Cathy Yates, Supervisor, Charter Township of Benton, 1725 Territorial Road, Benton Harbor, MI 49022. | Township Hall, 1725 Territorial Road, Benton Harbor, MI 49022. | Sep. 11, 2024 | 260031
Berrien (FEMA Docket No.: B-2451). | Charter Township of St. Joseph (24-05-0176P). | Roger Seely, Supervisor, Charter Township of St. Joseph, 3000 Washington Avenue, St. Joseph, MI 49085. | Township Hall, 3000 Washington Avenue, St. Joseph, MI 49085. | Sep. 11, 2024 | 260045
Berrien (FEMA Docket No.: B-2451). | City of Benton Harbor (24-05-0176P). | The Honorable Marcus Muhammad, Mayor, City of Benton Harbor, 200 East Wall Street, Benton Harbor, MI 49022. | City Hall, 200 East Wall Street, Benton Harbor, MI 49022. | Sep. 11, 2024 | 260032
Berrien (FEMA Docket No.: B-2451). | City of St. Joseph (24-05-0176P). | The Honorable Brook Thomas, Mayor, City of St. Joseph, 700 Broad Street, St. Joseph, MI 49085. | City Hall, 700 Broad Street, St. Joseph, MI 49085. | Sep. 11, 2024 | 260044
Minnesota:
Steams (FEMA Docket No.: B-2451). | City of Melrose (23-05-2796P). | The Honorable Joe Finken, Mayor, City of Melrose, P.O. Box 216, Melrose, MN 56352. | City Hall, 225 East 1st Street North, Melrose, MN 56352. | Sep. 26, 2024 | 270450
Steams (FEMA Docket No.: B-2451). | Unincorporated areas of Steams County (23-05-2796P). | Tarryl Clark, Chair, Steams County Board of Commissioners, 705 Courthouse Square, St. Cloud, MN 56303. | Steams County Administration Building, 705 Courthouse Square, St. Cloud, MN 56303. | Sep. 26, 2024 | 270546
Nevada: Clark (FEMA Docket No.: B-2451). | City of Henderson (24-09-0528P). | The Honorable Michelle Romero, Mayor, City of Henderson, 240 South Water Street, Henderson, NV 89015. | Public Works Department, 240 South Water Street, Henderson, NV 89015. | Sep. 30, 2024 | 320005
Ohio: Warren (FEMA Docket No.: B-2451). | City of Mason (23-05-2046P). | The Honorable Diana K. Nelson, Mayor, City of Mason, 6000 Mason Montgomery Road, Mason, OH 45040. | City Hall, 6000 Mason Montgomery Road, Mason, OH 45040. | Sep. 23, 2024 | 390559
Texas:
Dallas (FEMA Docket No.: B-2451). | City of Dallas (23-06-1171P). | The Honorable Eric L. Johnson, Mayor, City of Dallas, 1500 Marilla Street, Suite 5EN, Dallas, TX 75201. | Department of Public Works, 320 East Jefferson Boulevard, Room 321, Dallas, TX 75203. | Aug. 16, 2024 | 480171
Wharton (FEMA Docket No.: B-2451). | City of El Campo (23-06-0517P). | The Honorable Chris Barbee, Mayor, City of El Campo, 315 East Jackson Street, El Campo, TX 77437. | City Hall, 315 East Jackson Street, El Campo, TX 77437. | Sep. 30, 2024 | 480653
Wharton (FEMA Docket No.: B-2451). | Unincorporated areas of Wharton County (23-06-0517P). | The Honorable Phillip Spenrath, Wharton County Judge, 100 South Fulton Street, Suite 100, Wharton, TX 77488. | Wharton County Courthouse, 315 East Milam Street, Suite 102, Wharton, TX 77488. | Sep. 30, 2024 | 480652
Wisconsin: Kenosha (FEMA Docket No.: B-2451). | Village of Somers (24-05-0107P). | George Stoner, President, Village of Somers, P.O. Box 197, Kenosha, WI 53171. | Village Hall, 7511 12th Street, Kenosha, WI 53144. | Aug. 29, 2024 | 550406

[FR Doc. 2024-24347 Filed 10-21-24; 8:45 am]

BILLING CODE 9110-12-P